DEPARTMENT OF ENERGY

Office of Fossil Energy

[FE Docket No. 01-01-NG, 01-02-NG]

Transco Energy Marketing Co.; Selkirk Cogen Partnership, L.P.; Orders Granting Authority To Import and Export Natural Gas

AGENCY: Office of Fossil Energy, DOE.

ACTION: Notice of orders.

SUMMARY: The Office of Fossil Energy (FE) of the Department of Energy gives notice that during January 2001, it issued Orders granting authority to import and export natural gas. These Orders are summarized in the attached appendix and may be found on the FE website at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The docket room is open between the hours of 8 a.m. and 4:30 p.m., Monday through Friday, except Federal holidays.

Issued in Washington, DC on February 12, 2001.
Clifford P. Tomaszewski,
Manager, Natural Gas Regulation, Office of Natural Gas & Petroleum Import & Export Activities, Office of Fossil Energy.

Appendix—Orders Granting Import/Export Authorizations
[DOE/FE Authority]
Order No. | Date Issued | Importer/Exporter FE Docket No. | Import Volume | Export Volume | Comments
1665 | 1/22/01 | Transco Energy Marketing Company 01-01-NG | 730 Bcf |  | Import from Canada beginning on February 7, 2001, and extending through February 6, 2003
1664 | 1/26/01 | Selkirk Cogen Partners, L.P. 01-02-NG | 57 Bcf |  | Import and export a combined total from and to Canada, beginning on January 29, 2001, and extending through January 28, 2003

[FR Doc. 01-4005 Filed 2-15-01; 8:45 am]

BILLING CODE 6450-01-P